DEPARTMENT OF THE INTERIOR

Fish and Wildlife Service

Notice of Availability of an Environmental Assessment and Receipt of an Application for Amendment to an Incidental Take Permit for the Green Diamond Resource Company Habitat Conservation Plan for the Northern Spotted Owl, Del Norte and Humboldt Counties, CA

AGENCY: Fish and Wildlife Service, Interior.

ACTION: Notice of availability and receipt of application.

SUMMARY: Green Diamond Resource Company (Green Diamond) (previously Simpson Timber Company) has applied to the Fish and Wildlife Service (Service) to amend its existing incidental take permit (ITP) for the federally threatened northern spotted owl (Strix occidentalis caurina; “NSO”). The existing ITP was issued in 1992, in association with a Habitat Conservation Plan (Plan) and Implementation Agreement (IA), pursuant to section 10(a)(1)(B) of the Endangered Species Act (Act) of 1973, as amended.

The proposed ITP amendment would authorize the take of eight additional owl pairs on Green Diamond's ownership in Humboldt and Del Norte counties, California. These additional takes would be authorized during the existing permit term expiring in 2022, and would provide Green Diamond operational flexibility while they and the Service further consider and evaluate the findings of a 10-year, comprehensive Plan review.

The application for permit amendment includes proposed amendments to the existing IA and Plan, which describe the proposed action and the measures that Green Diamond will undertake to minimize and mitigate take of the NSO.

DATES: Written comments must be received on or before April 27, 2007.

ADDRESSES: Send written comments to Ms. Amedee Brickey, ES Program Manager, U.S. Fish and Wildlife Service, 1655 Heindon Road, Arcata, California 95521. You also may send comments by facsimile to 707-822-8411.

FOR FURTHER INFORMATION CONTACT: Mr. Gary Falxa, [see ADDRESSES] or call 707-822-7201.

SUPPLEMENTARY INFORMATION:

Availability of Documents

You may obtain copies of these documents for review by contacting the above office. Documents also will be available for public inspection, by appointment, during normal business hours at the Arcata Fish and Wildlife Office [see ADDRESSES] and at each of the following libraries:

(1) Eureka Main Library, 1313 3rd Street, Eureka, CA; telephone: 707-269-1900.

(2) Fortuna Branch, Humboldt County Library, 775 14th Street, Fortuna, CA; telephone: 707-725-3460.

(3) Arcata Branch, Humboldt County Library, 500 7th Street, Arcata, CA; telephone: 707-822-5924.

(4) Del Norte County Library, 190 Price Mall, Crescent City, CA; telephone: 707-464-9793.

Background

Section 9 of the Act and Federal regulations prohibit the “take” of fish and wildlife species listed as endangered or threatened. Take of federally listed fish and wildlife is defined under the Act to include “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

On September 17, 1992, the Service issued an ITP to the Applicant authorizing take of up to 50 NSO pairs in accordance with conditions set forth in the Plan and an IA. The ITP was issued in response to a permit application with an associated Habitat Conservation Plan for timber harvesting on the firm's properties in Del Norte, Humboldt, Mendocino, and Trinity counties, California. The effects of the proposed ITP were analyzed and described in an Environmental Assessment (EA) prepared and issued by the Service (Notice of Availability, Federal Register, May 27, 1992).

Green Diamond is proposing to amend its ITP to authorize take of up to eight additional NSO pairs on that part of its ownership, currently about 416,533 acres, on the west slopes of the Klamath Mountains and the Coast Range in Humboldt and Del Norte counties, California. The Applicant anticipates that these takes would be in the form of displacement of NSO pairs, incidental to timber harvest activities in or near NSO nest sites or activity centers.

To mitigate take of eight additional owl pairs, Green Diamond proposes, in addition to measures in the existing Plan, to conduct new research on the habitat overlap and interaction between the NSO and barred owl (Strix varia), and to re-establish, through year 2012, a special management area of about 20,310 acres on its ownership, within which Green Diamond would not take owls.

The Service's EA considers the environmental consequences of three alternatives, including: (1) The Proposed Project Alternative, which consists of issuance of an amended ITP and implementation of the additional Plan measures; (2) an alternative that provides for the take of eight additional owl pairs (similar to the Proposed Action), plus release for harvest entry of three set-aside areas that are otherwise not available for timber harvest during the term of the ITP; and (3) the No Action Alternative, which provides for continued implementation of measures contained in the existing Plan and associated IA, and the level of incidental take authorized in the existing 1992 ITP.

National Environmental Policy Act

Proposed permit issuance triggers the need for compliance with the National Environmental Policy Act (NEPA). Accordingly, as the NEPA lead agency, the Service is providing this notice of the availability and is making the EA available for public review.

Public Review

The Service invites the public to review the EA and amendments to the Plan and IA during a 60-day public comment period [see DATES]. Written comments from interested parties are welcome to ensure that the issues of public concern related to the proposed action are identified. Comments and materials received will be available for public inspection, by appointment, during normal business hours at the office listed in the ADDRESSES section of this notice. All materials received will become part of the administrative record. Our practice is to make comments, including names, home addresses, home phone numbers, and email addresses of respondents, available for public review. Individual respondents may request that we withhold their names and/or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

This notice is provided pursuant to section 10(a) of the Act and the regulations for implementing NEPA, as amended (40 CFR 1506.6). We will evaluate the application, associated documents, and comments submitted thereon to determine whether the application meets the requirements of NEPA regulations and section 10(a) of the Act. If we determine that those requirements are met, we will issue an amended permit to the Green Diamond. We will make our final permit decision no sooner than 60 days from the date of this notice.

Dated: February 20, 2007.
Ken McDermond,
Deputy Manager, California/Nevada Operations Office, Sacramento, California.

[FR Doc. E7-3176 Filed 2-23-07; 8:45 am]

BILLING CODE 4310-55-P